DEPARTMENT OF AGRICULTURE

Animal and Plant Health Inspection Service

[Docket No. 03-053-2]

Hydrilla; Availability of an Environmental Assessment and Finding of No Significant Impact

AGENCY: Animal and Plant Health Inspection Service, USDA.

ACTION: Notice.

SUMMARY: We are advising the public that an environmental assessment and finding of no significant impact have been prepared by the Animal and Plant Health Inspection Service relative to the continued release of the nonindigenous leaf-mining flies Hydrellia pakistanaeDeonier and H. balciunasi Bock (Diptera: Ephydridae) as biological control agents to reduce the severity of infestations of the aquatic weed hydrilla (Hydrilla verticillata) in the continental United States. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Tracy A. Horner, Ecologist, Environmental Services, PPD, APHIS, 4700 River Road, Unit 149, Riverdale, MD 20737-1236; (301) 734-5213.

SUPPLEMENTARY INFORMATION:

Background

The Animal and Plant Health Inspection Service (APHIS) is considering an application by a researcher at the U.S. Army Engineer Research and Development Center in Vicksburg, MS, for a permit for the continued release of the nonindigenous leaf-mining flies Hydrellia pakistanaeDeonier and H. balciunasi Bock (Diptera: Ephydridae) in the continental United States. These agents, which have previously been released in the United States, would be used by the applicant for the biological control of the aquatic weed hydrilla (Hydrilla verticillata (L.F.) Royle (Hydrocharitaceae) in new areas infested with hydrilla.

Hydrilla, which is native to the warmer areas of Asia, was first discovered in the United States in 1960. A submersed aquatic plant, it has the ability to multiply profusely, producing long, thick stands. It has become a major nuisance in many aquatic systems, displacing native aquatic plants such as pondweeds and eel grass, causing navigational interference, hindering waterflow, and detracting from recreational use of water bodies.

The biological control agents H. pakistanae and H. balciunasi, which have been released previously in several States, have the potential to reduce the severity of infestations of hydrilla in other areas of the continental United States. H. pakistanae and H. balciunasi are flies in the family Ephydridae. Female Hydrellia spp. lay their eggs on hydrilla, and after several days, the eggs hatch into larvae. The larvae of both species damage hydrilla plants by mining leaves.

On May 23, 2003, we published in the Federal Register (68 FR 28190-28191, Docket No. 03-053-1) a notice in which we announced the availability, for public review and comment, of an environmental assessment (EA) that examined the potential environmental impacts associated with the proposed release of these biological control agents into additional areas of the United States.

We solicited comments on the EA for 30 days ending June 23, 2003. We did not receive any comments by that date.

In this document, we are advising the public of our finding of no significant impact (FONSI) regarding the continued release of the nonindigenous leaf-mining flies Hydrellia pakistanae Deonier and H. balciunasi Bock (Diptera: Ephydridae) as biological control agents to reduce the severity of infestations of hydrilla in the continental United States. The finding, which is based on the EA, reflects our determination that release of these biological control agents will not have a significant impact on the quality of the human environment.

The EA and FONSI may be viewed on the Internet at http://www.aphis.usda.gov/ppq/ by following the link for “Document/Forms Retrieval System,” then clicking on the triangle beside “6-Permits-Environmental Assessments” and selecting document number 0035. You may request paper copies of the EA and FONSI by calling or writing to the person listed under FOR FURTHER INFORMATION CONTACT. Please refer to the title of the EA when requesting copies. The EA and FONSI are also available for review in our reading room (information on the location and hours of the reading room is listed under the heading ADDRESSES at the beginning of this notice).

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS’ NEPA Implementing Procedures (7 CFR part 372).

Done in Washington, DC, this 17th day of October, 2003.
Kevin Shea,
Acting Administrator, Animal and Plant Health Inspection Service.

[FR Doc. 03-26785 Filed 10-22-03; 8:45 am]

BILLING CODE 3410-34-P